DEPARTMENT OF TRANSPORTATION

Federal Motor Carrier Safety Administration

[Docket No. FMCSA-2005-23239]

Proposed Improvements to the Motor Carrier Safety Status (SafeStat) Measurement System

AGENCY: Federal Motor Carrier Safety Administration (FMCSA).

ACTION: Notice; request for comments.

SUMMARY: The Federal Motor Carrier Safety Administration (FMCSA) proposes improvements to its Motor Carrier Safety Status (SafeStat) Measurement System algorithm. The SafeStat system analyzes current and historical safety performance and compliance information to rank the relative safety fitness of commercial motor carriers. SafeStat enables FMCSA to quantify and monitor trends in the safety status of individual motor carriers. FMCSA focuses compliance review and roadside inspection resources on carriers posing the greatest potential safety risk. The proposed improvements are intended to make the algorithm more effective in identifying motor carriers posing a high crash risk.

DATES: Submit comments on or before July 3, 2006.

ADDRESSES: You may submit comments on the proposed changes through the SafeStat Online section of FMCSA's Analysis & Information Online Web site: http://ai.fmcsa.dot.gov/SafeStat/SafeStatMain.asp.

FOR FURTHER INFORMATION CONTACT: Mr. Bryan Price, Federal Motor Carrier Safety Administration, 1000 Liberty Avenue, Suite 305, Pittsburgh, PA 15222. Telephone 412-395-4816. E-mail bryan.price@fmcsa.dot.gov.

SUPPLEMENTARY INFORMATION: SafeStat is an automated, data-driven analysis system designed by FMCSA. It combines current and historical carrier-based safety performance information to measure the relative (peer-to-peer) safety fitness of interstate commercial motor carriers and intrastate commercial motor carriers that transport hazardous materials. This information includes Federal and State data on crashes and roadside inspections, on-site compliance review results, and enforcement history. SafeStat enables FMCSA to quantify and monitor the safety status of individual motor carriers on a monthly basis, and thereby focus compliance review and roadside inspection resources on carriers posing the greatest potential safety risk.

SafeStat can be accessed through the SafeStat Online portion of FMCSA's A&I Online Web site: http://ai.fmcsa.dot.gov/SafeStat/SafeStatMain.asp. The Agency has proposed improvements to the SafeStat system that would simplify the Accident Safety Evaluation Area (SEA), increase the relevance of moving violations in the Driver SEA, include in the Vehicle SEA vehicle out-of-service violations from inspections marked as driver-only, and shorten the data exposure time period considered by SafeStat from 30 months to 24 months. The proposed changes are also consistent with FMCSA's Comprehensive Safety Analysis 2010 (CSA 2010) reform initiative. The ultimate goal of CSA 2010 is development of an optimal operational model that will allow FMCSA to focus its limited resources on improving the performance of high-risk operators. For more information about CSA 2010, visit http://www.fmcsa.dot.gov/safety-security/safety-initiatives/csa2010listening.htm.

Revisions to the SafeStat system are exempt from notice and comment under the Administrative Procedure Act because they are both matters “relating to agency management” and “general statements of policy, or rules of agency * * * procedure, or practice” under 5 U.S.C. 553(a)(2) and (b)(A), respectively. Nonetheless, FMCSA encourages the public to review the details of the proposed SafeStat improvements by accessing SafeStat Online, and to submit comments directly to the Web site. The Agency will give careful consideration to all comments received, and provide appropriate notice regarding the changes to its safety measurement system at http://ai.fmcsa.dot.gov/SafeStat/SafeStatMain.asp.

Issued on: April 24, 2006.
William A. Quade,
Acting Associate Administrator, Enforcement and Program Delivery.

[FR Doc. E6-6647 Filed 5-2-06; 8:45 am]

BILLING CODE 4910-EX-P